DEPARTMENT OF THE INTERIOR

Fish and Wildlife Service

Notice of Availability of Draft Comprehensive Conservation Plan and Environmental Assessment for Muleshoe National Wildlife Refuge, Muleshoe, TX and Grulla National Wildlife Refuge, Arch, NM

AGENCY: Fish and Wildlife Service, Department of the Interior.

ACTION: Notice of availability.

SUMMARY: The U.S. Fish and Wildlife Service (Service) announces that a Draft Comprehensive Conservation Plan (CCP) and Environmental Analysis (EA) for the Muleshoe and Grulla National Wildlife Refuges is available for review and comment. This CCP/EA, prepared pursuant to the National Wildlife Refuge System Administration Act of 1966, as amended by the National Wildlife Refuge System Improvement Act of 1997, and the National Environmental Policy Act of 1969, describes how the Service intends to manage these refuges over the next 15 years.

DATES: Written comments must be received on or before November 24, 2003.

ADDRESSES: Send comments to Carol Torrez, Biologist/Natural Resource Planner, U.S. Fish and Wildlife Service, P.O. Box 1306, Albuquerque, New Mexico, 87103-1306, Telephone: (505) 248-6821, Fax: (505) 248-6874. Comments may also be sent via electronic mail to: carol_torrez@fws.gov

The draft CCP/EA is available on compact diskette or hard copy, and may be obtained by writing, telephoning, faxing, or e-mailing Carol Torrez at the above listed address.

FOR FURTHER INFORMATION CONTACT: Carol Torrez, Biologist/Natural Resource Planner, 505-248-6821 or Harold Beierman, Refuge Manager, 806-946-3341.

SUPPLEMENTARY INFORMATION:

Public Involvement

The draft CCP/EA is available for public review and comment for a period of 45 days. Copies of the document can be obtained as indicated in the ADDRESSES section. In addition, documents will be available for public inspection during normal business hours (8-4:30) at the Muleshoe NWR Headquarters Office, 20 miles south of Muleshoe, Texas, off Highway 214, and at the following libraries:

Muleshoe Public Library, 322 West 2nd Street, Muleshoe, Texas 79347,

Lamb County Library, 232 Phelps Avenue, Littlefield, Texas 79339,

Cochran County Love Memorial Library, 318 South Main Street, Morton, Texas 79346,

City of Portales Library, 218 South Avenue B, Portales, New Mexico 88130.

A public meeting to receive comments on the Draft CCP/EA will be held at the Muleshoe NWR Headquarters Office during the open comment period (in November 2003). Special mailings, newspaper articles, and/or other media announcements will be used to inform the public of the date and time of the meeting.

All comments received from individuals become part of the official public record. Requests for such comments will be handled in accordance with the Freedom of Information Act and the Council on Environmental Quality's NEPA regulations [40 CFR 1506.6 (f)].

Background

The National Wildlife Refuge System Administration Act of 1966, as amended by the National Wildlife Refuge System Improvement Act of 1997 (16 U.S.C. 668dd-668ee et seq.) requires a CCP. The purpose in developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

The Muleshoe National Wildlife Refuge was established on October 24, 1935 by the authority of the Migratory Bird Conservation Act (16 U.S.C. 712d) “ * * * for use as an inviolate sanctuary, or any other management purpose, for migratory birds.” Located in the south plains of west Texas, the 5,809 acre refuge is comprised of three shallow playa lakes and almost 5,000 acres of native short to mid-grass prairie. Only small areas of refuge land have been farmed. Much of the refuge grasslands are pristine examples of what the surrounding area was like before agricultural development. Management efforts focus on enhancing and restoring native grassland and wetland communities for sandhill cranes, waterfowl, other migratory birds, and resident wildlife.

The Grulla National Wildlife Refuge was established on November 6, 1969 by the authority of the Migratory Bird Conservation Act (45 Stat. 1222, as amended; U.S.C. 715) “* * * for a migratory bird refuge primarily for the benefit and use of the lesser sandhill crane.” Located on the High Plains of eastern New Mexico adjacent to the Texas state line, this 3,236 acre refuge consists of a 2,330 acre shallow lake (Salt Lake) and 906 acres of native grasses and shrubs. The boundary of this refuge is very irregular and runs through the lake bed in several places. Only one access point is currently available to the public and the Service. The refuge provides outstanding wildlife habitat and viewing opportunities when Salt Lake holds water; however, these opportunities are limited by local precipitation. Opportunities for active management of this refuge have been limited due to its remote location, lack of resident staff, and access issues. Future management efforts will focus on improving access and public wildlife viewing opportunities.

The Draft CCP/EA addresses a range of topics including habitat and wildlife management, public use opportunities, invasive species control, and administration and staffing for the refuges. The key refuge issues and how they are addressed in the plan alternatives are summarized below. Alternative A is the current management, or what is currently offered, at the refuge. Alternative B is the proposed action. Under Alternative C, refuge habitats would be managed solely by the uses of prescribed fire. Under Alternative D, management of refuge habitats would be accomplished through mechanical means such as haying or mowing. Alternative E would call for no active management on the refuge.

Habitat management activities: Alternative A: Grazing has historically been the primary grassland management tool used on the refuge. Efforts to use prescribed fire and control invasive species have been limited. Alternative B: The managed grazing program would be modified and integrated with prescribed fire and mechanical vegetative manipulation to encourage ecological integrity, promote native prairie restoration, control invasive plant species, and provide/enhance habitat for grassland birds and other resident wildlife. Alternative C: Grazing would be discontinued. Prescribed fire would be the primary tool used to manage refuge habitats and control invasive plants. Alternative D: Grazing would be discontinued. Mechanical means such as haying and mowing would be used to manage refuge grassland habitats and control invasive plant species. Alternative E: No active management of grassland habitat. Habitats would be allowed to evolve into climax conditions. Limited use of biological controls would be used as an experiment to control invasive plant species.

Improvements to public use opportunities: Alternative A: The public use program would remain at current levels and no new facilities would be developed on the refuge. Hunting would continue to be prohibited. Alternative B: The public use program would increase and/or enhance educational and outreach activities, recreational opportunities (including consideration of hunting opportunities), community involvement, and improve facilities. Alternative C: The public use program would be similar to Alternative B. Alternative D: The public use program would be similar to Alternative B. Alternative E: The public use program would be discontinued.

Refuge Land and Boundary Protection: Alternative A: There would be no acquisition and no exploration of possible refuge boundary expansion. Alternative B: Land protection would be accomplished through partnerships with adjacent owners. Refuge boundary expansion would only occur as a means to improve access to the public and would be considered under a separate public process. Any mention of acquisition is conceptual in nature only. Alternative C: Same as Alternative B. Alternative D: Same as Alternative B. Alternative E: Same as Alternative A.

Dated: August 15, 2003.
Geoffrey L. Haskett,
Acting Regional Director, U.S. Fish and Wildlife Service, Albuquerque, New Mexico.

[FR Doc. 03-25485 Filed 10-7-03; 8:45 am]

BILLING CODE 4310-55-P